DEPARTMENT OF THE INTERIOR

Bureau of Land Management

[OR-030-00-1020-XU: GPO-0285]

Notice of Meeting of John Day/Snake Resource Advisory Council

AGENCY: Vale District, Bureau of Land Management, Interior.

ACTION: Meeting of John Day/Snake Resource Advisory Council: Walla Walla, Washington.

SUMMARY: On September 6, 2000 at 10 a.m. there will be a panel discussion to define and clarify the Endangered Species Act (ESA). The meeting will be held at the Cascade Natural Gas Corporation conference room, 324 W. Rose Street, Walla Walla, Washington. The meeting is open to the public. Public comments will be received at 10 a.m. on September 7, 2000. The following topics will be discussed by the council: Status and future of the RAC subgroups; RAC's position on the over stocked timber stands issue/prescribed fire; Meeting quorum issues; OHV issues; A 15 minute round table for general issues.

FOR FURTHER INFORMATION CONTACT: Juan Palma, Bureau of Land Management, Vale District Office, 100 Oregon Street, Vale, Oregon 97918, Telephone (541) 473-3144.

Juan Palma,
District Manager.

[FR Doc. 00-18168 Filed 7-19-00; 8:45 am]

BILLING CODE 4310-33-M